ENVIRONMENTAL PROTECTION AGENCY

[EPA-HQ-OPP-2007-0508: FRL-8140-5]

Cancellation of Pesticides for Non-payment of Year 2007 Registration Maintenance Fees

AGENCY: Environmental Protection Agency (EPA).

ACTION: Notice.

SUMMARY: Since the amendments of October, 1988, the Federal Insecticide, Fungicide, and Rodenticide Act (FIFRA) has required payment of an annual maintenance fee to keep pesticide registrations in effect. The fee, due January 15, 2007, has gone unpaid for 721 registrations. Section 4(i)(5)(G) of FIFRA provides that the Administrator may cancel these registrations by order and without a hearing; orders to cancel all 721 of these registrations have been issued within the past few days.

FOR FURTHER INFORMATION CONTACT: For further information on the maintenance fee program in general, contact by mail:John Jamula, Office of Pesticide Programs (7504P), Environmental Protection Agency, 1200 Pennsylvania Avenue NW, Washington, DC 20460; telephone number: (703) 305-6426; e-mail address: jamula.john@epa.gov.

SUPPLEMENTARY INFORMATION:

I. Important Information

A. Does this apply to me?

You may be potentially affected by this notice if you are an EPA registrant with any approved product registration(s). Although this action may be of particular interest to persons who produce or use pesticides, the Agency has not attempted to describe all the specific entities that may be affected by this action. If you have any questions regarding the information in this notice, consult the person listed in the FOR FURTHER INFORMATION CONTACT section.

B. How can I get additional information or copies of support documents?

1. Docket. EPA has established a docket for this action under docket identification [ID] number EPA-HQ-OPP-2007-0508. Publicly available docket materials are available either in the electronic docket at http://regulations.gov or in hard copy at the Office of Pesticide Programs (OPP) Regulatory Public Docket in Rm. S-4400, One Potomac Yard (South Building), 2777 S. Crystal Drive, Arlington, VA. The hours of operation of this Docket Facility are from 8:30 a.m to 4:00 p.m. Monday through Friday, excluding legal holidays. The Docket telephone number is (703) 305-5805.

2. Electronic access. You may access this Federal Register document electronically through the EPA Internet under the “Federal Register” listings at http://www.epa.gov/fedrgstr.

II. Introduction

Section4(i)(5) of FIFRA as amended in October 1988 (Public Law 100-532), December 1991 (Public Law 102-237), and again in August 1996 (Public Law 104-170), requires that all pesticide registrants pay an annual registration maintenance fee, due by January 15 of each year, to keep their registrations in effect. This requirement applies to all registrations granted under section 3 as well as those granted under section 24(c) to meet special local needs. Registrations for which the fee is not paid are subject to cancellation by order and without a hearing.

The Food, Agriculture, Conservation, and Trade Act Amendments of 1991, Public Law 102-237, amended FIFRA to allow the Administrator to reduce or waive maintenance fees for minor agricultural use pesticides when he determines that the fee would be likely to cause significant impact on the availability of the pesticide for the use. The Agency has waived the fee for 182 minor agricultural use registrations at the request of the registrants.

In fiscal year 2007, maintenance fees were collected in one billing cycle. The Pesticide Registration Improvement Act (PRIA) was passed by Congress in January 2004. PRIA became effective in March 2004 and authorized the Agency to collect $21 million in maintenance fees in fiscal year 2007. In late December 2006, all holders of either section 3 registrations or section 24(c) registrations were sent lists of their active registrations, along with forms and instructions for responding. They were asked to identify which of their registrations they wished to maintain in effect, and to calculate and remit the appropriate maintenance fees. Most responses were received by the statutory deadline of January 15. A notice of intent to cancel was sent in mid-February to companies who did not respond and to companies who responded, but paid for less than all of their registrations. Since mailing the notices, EPA has maintained a toll-free inquiry number through which the questions of affected registrants have been answered.

Maintenance fees have been paid for about 15,730 section 3 registrations, or about 96% of the registrations on file in December. Fees have been paid for about 2,193 section 24(c) registrations, or about 86 percent of the total on file in December. Cancellations for non-payment of the maintenance fee affect about 466 Section 3 registrations and about 255 Section 24(c) registrations.

The cancellation orders generally permit registrants to continue to sell and distribute existing stocks of the canceled products until January 15, 2008, one year after the date on which the fee was due. Existing stocks already in the hands of dealers or users, however, can generally be distributed, sold or used legally until they are exhausted. Existing stocks are defined as those stocks of a registered pesticide product which are currently in the U.S. and which have been packaged, labeled and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-payment

Table 1 lists all of the Section 24(c) registrations, and Table 2 Lists all of the Section 3 registrations which were canceled for non-payment of the 2007 maintenance fee. These registrations have been canceled by order and without hearing. Cancellation orders were sent to affected registrants via certified mail in the past several days. The Agency is unlikely to rescind cancellation of any particular registration unless the cancellation resulted from Agency error.

Table 1.—Section 24(c) Registrations Canceled for Non-Payment of Maintenance Fee
SLN no. | Product Name
000100 AL-00-0004 | Cyclone Concentrate/gramoxone Max
051036 AL-03-0001 | Pounce 3.2 EC Insecticide
000100 AL-03-0004 | Tilt Fungicide
000100 AL-04-0002 | Quilt Fungicide
000100 AL-06-0005 | Zephyr 0.15 EC
010163 AL-95-0001 | Imidan 70-WP Agricultural Insecticide
000352 AR-00-0008 | Linex 50 DF
019713 AR-02-0010 | Drexel Captan 50W
051036 AR-02-0011 | Pounce 3.2 EC Insecticide
000100 AR-03-0008 | Tilt Fungicide
000100 AR-05-0001 | Quilt Fungicide
000279 AR-05-0004 | Command 3ME
000279 AR-06-0001 | Command 3ME
010163 AR-93-0007 | Imidan 70-WP Agricultural Insecticide
071649 AR-99-0007 | Bayluscide 70% Wettable Powder
073748 AZ-06-0008 | Masterline Permethrin Plus C
010163 AZ-97-0002 | Lorsban 50W Insecticide In Water Soluble Packets
073318 CA-00-0004 | Pro-Gibb 4% Liquid Concentrate
053219 CA-01-0025 | M-Pede Insecticide/Fungicide
000524 CA-02-0011 | Mon 78112 Herbicide
036029 CA-03-0006 | Ground Squirrel Bait By Wilco
079407 CA-03-0008 | Towerchlor 90 Tablets
000100 CA-04-0005 | Cyclone Concentrate/gramoxone Max
000100 CA-04-0006 | Cyclone Concentrate/gramoxone Max
000100 CA-05-0006 | Gramoxone Max
066222 CA-06-0015 | Thionex 3EC Insecticide
034704 CA-91-0006 | De-Fend W-25 Insecticide
001812 CA-93-0004 | Kocide 101
010163 CA-93-0023 | Botran 75 W
010163 CA-95-0011 | Botran 75 W-Fungicide
000100 CA-97-0023 | Fusilade Dx Herbicide
000100 CO-02-0005 | Actara
000524 CO-04-0002 | Roundup Originalmax
000100 CO-04-0003 | Gramoxone Max Herbicide
007969 CO-05-0003 | Headline Fungicide
000100 CO-06-0006 | Axial Herbicide
000100 CO-98-0011 | Mefenoxam EC
000100 DE-03-0001 | Cyclone Concentrate/gramoxone Max
000100 DE-03-0002 | Cyclone Concentrate/gramoxone Max
010163 DE-04-0001 | Sandea Herbicide
000100 FL-01-0001 | Cyclone Concentrate/gramoxone Max
000100 FL-01-0002 | Cyclone Concentrate/gramoxone Max
000100 FL-01-0004 | Cyclone Concentrate/gramoxone Max
000100 FL-01-0005 | Cyclone Concentrate/gramoxone Max
000279 FL-03-0009 | Carfentrazone Row Herbicide
000100 FL-04-0009 | Gramoxone Max Herbicide
000100 FL-05-0001 | Switch 62.5wg
000100 FL-88-0016 | Tilt Fungicide
000100 FL-92-0006 | Citation Insecticide
067858 FL-94-0001 | Bayluscide 70% Wettable Powder
063935 FL-96-0005 | Pursuit DG Herbicide
000100 GA-01-0003 | Cyclone Concentrate/gramoxone Max
000100 GA-01-0004 | Cyclone Concentrate/gramoxone Max
000100 GA-04-0003 | Quilt Fungicide
000100 GA-05-0001 | Gramoxone Max
000100 GA-05-0002 | Gramoxone Max
000100 GA-06-0001 | Gramoxone Inteon
000100 GA-06-0003 | Zephyr 0.15ec
010163 GA-94-0009 | Imidan 70-Wp Agricultural Insecticide
000100 GA-98-0003 | Tilt Fungicide
019713 HI-00-0004 | Drexel Sulfur 90W
000100 HI-02-0007 | Cyclone Concentrate/gramoxone Max
000100 HI-02-0008 | Gramoxone Max
075743 HI-03-0004 | Bayleton 50% Wettable Powder
061667 HI-03-0006 | Ag Sanitizer 12.5%
034704 HI-93-0004 | Clean Crop Dimethoate 400
000100 IA-03-0002 | Protege
010163 ID-01-0002 | Prokil Dimethoate E267
000100 ID-02-0004 | Actara
000100 ID-02-0009 | Cyclone Concentrate/gramoxone Max
000279 ID-03-0007 | Aim Herbicide
080225 ID-05-0005 | Eptam 7E
007969 ID-05-0006 | Outlook Herbicide
000100 ID-05-0007 | Quilt Fungicide
080225 ID-05-0011 | Eptam 7E
034704 ID-91-0014 | Clean Crop Phorate 20G
010163 ID-92-0008 | Gowan Dimethoate E267
000100 ID-95-0012 | Tilt Fungicide
000100 ID-98-0004 | Tilt Fungicide
010163 IN-97-0003 | Imidan 70-WP Agricultural Insecticide
000100 IN-98-0003 | Tilt Fungicide
000100 KS-03-0001 | Tilt Fungicide
007969 KS-99-0007 | Facet 75 Df Herbicide
000100 KY-02-0004 | Cyclone Concentrate/gramoxone Max
000100 KY-05-0002 | Tilt
000352 LA-00-0016 | Volcano Leafcutter Ant Bait
000279 LA-01-0002 | Command 3ME Microencapsulated Herbicide
000100 LA-01-0005 | Cyclone Concentrate/gramoxone Max
000100 LA-01-0006 | Cyclone Concentrate/gramoxone Max
002217 LA-01-0009 | Acme Hi-Dep Herbicide
000352 LA-01-0016 | Velpar L Herbicide
000279 LA-04-0001 | Command 3ME Microencapsulated Herbicide
010163 LA-05-0010 | Imidan 70-W
000100 LA-06-0012 | Envoke Herbicide
034704 LA-92-0014 | Clean Crop Phorate 20G
010163 MD-05-0001 | Sandea Herbicide
008329 MD-06-0002 | Biomist 30+30 ULV
000100 MD-95-0001 | Gramoxone Extra Herbicide
010163 ME-00-0002 | Imidan 70-WP Agricultural Insecticide
000100 ME-03-0002 | Cyclone Concentrate/gramoxone Max
000100 ME-03-0003 | Cyclone Concentrate/gramoxone Max
000100 MI-01-0001 | Dual Magnum Herbicide
000100 MI-03-0005 | Dual Magnum Herbicide
000100 MI-04-0007 | Dual Magnum Herbicide
010163 MI-93-0006 | Imidan 70-WP Agricultural Insecticide
000100 MI-95-0007 | Tilt Fungicide
000100 MI-98-0001 | Tilt Fungicide
000100 MN-01-0012 | Actara
000100 MN-03-0013 | Protege
000100 MN-03-0015 | Cyclone Concentrate/gramoxone Max
034704 MN-92-0001 | Clean Crop Malathion 57EC
000100 MN-98-0003 | Tilt Fungicide
000100 MO-04-0006 | Quilt Fungicide
000279 MO-05-0001 | Command 3ME Microencapsulated Herbicide
000279 MO-06-0001 | Command 3ME
000100 MO-06-0002 | Envoke Herbicide
000100 MO-95-0003 | Gramoxone Extra Herbicide
059639 MO-96-0009 | Stellar Herbicide
000100 MO-98-0003 | Tilt Fungicide
000100 MP-05-0019 | Zephyr 0.15 EC Miticide/insecticide
000100 MS-01-0029 | Cyclone Concentrate/gramoxone Max
070829 MS-02-0005 | Clearout 41 Plus
070829 MS-04-0002 | Clearout 41
000100 MS-04-0011 | Quilt Fungicide
000100 MS-05-0019 | Zephyr 0.15 EC
000100 MS-06-0001 | Gramoxone Inteon
000100 MS-06-0016 | Envoke Herbicide
010163 MS-96-0003 | Imidan 70-WP Agricultural Insecticide
000100 MS-98-0004 | Tilt Fungicide
051036 MS-99-0002 | Permethrin 3.2 TC
000100 MT-03-0004 | Tilt (r)
012455 MT-05-0005 | ZP Rodent Bait AG
000100 MT-06-0006 | Quadris Flowable Fungicide
034704 MT-91-0004 | Clean Crop Phorate 20G
010163 MT-93-0001 | Gowan Dimethoate E267
010163 MT-94-0003 | Botran 75 W
000100 NC-00-0003 | Cyclone Concentrate/gramoxone Max
000100 NC-01-0002 | Cyclone Concentrate/gramoxone Max
000100 ND-01-0007 | Actara
000100 ND-01-0011 | Touchdown Herbicide
000100 ND-02-0008 | Cyclone Concentrate Herbicide
074530 ND-03-0014 | Glyphosate 41 %
074530 ND-03-0015 | Glyphosate
000100 ND-03-0018 | Tilt Fungicide
000524 ND-04-0006 | RT Master II Herbicide
000100 ND-06-0005 | Quadris Flowable Fungicide
000100 NJ-02-0002 | Actigard 50wg Plant Activator
000100 NJ-03-0001 | Cyclone Concentrate/gramoxone Max
010163 NJ-04-0004 | Imidan 70-WP Agricultural Insecticide
008329 NJ-99-0007 | Abate 4E Insecticide
059639 NM-93-0001 | Payload 15 Granular
059639 NM-93-0002 | Payload 15 Granular
004581 NV-02-0007 | Microthiol Disperss
055429 NV-04-0005 | CSC 80% Thiosperse/thioben
036029 NV-04-0007 | Ground Squirrel Bait By Wilco AG
036029 NV-93-0003 | Wilco Ground Squirrel Bait
000100 NY-04-0005 | Reward Accugel Aquatic Herbicide
000100 OH-04-0002 | Tilt Fungicide
000100 OH-04-0003 | Cyclone Concentrate/gramoxone Max
000100 OH-04-0004 | Ridomil Gold EC Fungicide
012455 OH-85-0001 | ZP Rodent Bait AG
069691 OH-96-0002 | Mushroom Supplement Preservative
000100 OK-02-0001 | Tilt Fungicide
000100 OK-04-0001 | Quilt Fungicide
010163 OK-05-0002 | Supracide 2E
005481 OK-05-0005 | Discipline 2ec
034704 OK-05-0017 | Simazine 4L Flowable Herbicide
000100 OK-93-0004 | Aatrex 4l Herbicide
000100 OK-93-0005 | Aatrex Nine-0 Herbicide
059639 OK-95-0001 | Payload 15 Granular
059639 OK-95-0002 | Payload 15 Granular
034704 OR-00-0005 | Prometryne 4L Herbicide
034704 OR-00-0017 | Saber Herbicide
000100 OR-01-0019 | Actara 25 Wg
055260 OR-04-0025 | Syllit Flow Fungicide
019713 OR-04-0026 | Drexel Diazinon Insecticide
000100 OR-05-0011 | Tilt
000100 OR-05-0012 | Tilt
080225 OR-05-0026 | Eptam 7-E Selective Herbicide
004271 OR-05-0033 | Zinc Phosphide on Oats
019713 OR-90-0023 | Drexel Diuron 4l Herbicide
010163 OR-94-0043 | Imidan 70-WP Agricultural Insecticide
019713 OR-95-0016 | Drexel Captan 50W
000100 OR-96-0013 | Tilt Gel Fungicide
000241 OR-96-0026 | Assert Herbicide
034704 OR-98-0001 | Clean Crop Dimethoate 400
010163 OR-99-0055 | Diclor Fungicide
010163 OR-99-0056 | Botran 75 W-Fungicide
051036 PA-03-0001 | Diazinon AG 500
000100 PA-03-0002 | Cyclone Concentrate/gramoxone Max
012455 PA-82-0016 | Ditrac Rat and Mouse Bait
000400 PA-98-0001 | Turfcide 4F
075451 PR-02-0001 | Avitrol Powder Mix
069592 PR-04-0001 | Serenade AS
069592 PR-04-0003 | Serenade AS
000100 SC-01-0001 | Cyclone Concentrate/gramoxone Max
051036 SC-03-0003 | Pounce 3.2 EC Insecticide
000100 SC-06-0002 | Envoke Herbicide
010163 SC-95-0004 | Imidan 70-WP Agricultural Insecticide
000524 SD-04-0009 | RT Master II Herbicide
059639 TN-00-0001 | Orthene 97 Pellets
000100 TN-03-0002 | Tilt Fungicide
000100 TN-04-0001 | Cyclone Concentrate/gramoxone Max
000100 TN-04-0002 | Cyclone Concentrate/gramoxone Max
000100 TN-04-0003 | Cyclone Concentrate/gramoxone Max
000100 TN-04-0004 | Quilt Fungicide
000100 TN-05-0004 | Zephyr 0.15ec
000100 TN-06-0001 | Zephyr 0.15ec
000100 TN-06-0003 | Envoke Herbicide
051036 TX-01-0014 | Diazinon AG 500
000100 TX-03-0004 | Cyclone Concentrate/gramoxone Max
000100 TX-03-0009 | Gramoxone Max Herbicide
000100 TX-04-0006 | Cyclone Concentrate Herbicide
000100 TX-04-0022 | Quilt Fungicide
000279 TX-05-0002 | Command 3ME Herbicide
000279 TX-06-0001 | Command 3ME Herbicide
000100 TX-06-0019 | Envoke Herbicide
059639 TX-96-0003 | Orthene 90 Wsp
000352 TX-97-0007 | Dupont Staple Herbicide
000100 TX-98-0001 | Tilt Fungicide
010163 UT-01-0005 | Prokil Carbaryl Bait
000100 VA-02-0003 | Actigard 50wg Plant Activator
000100 VA-03-0001 | Actigard 50wg Plant Activator
010163 VA-05-0002 | Sandea Herbicide
012455 VA-82-0015 | Ditrac Rat and Mouse Bait
000100 VA-98-0003 | Tilt Fungicide
000100 WA-01-0030 | Actara 25 Wg
010163 WA-01-0032 | Imidan 70-WP Agricultural Insecticide
051036 WA-03-0011 | Diazinon AG 500
000100 WA-04-0012 | Cyclone Concentrate Herbicide
000100 WA-04-0013 | Cyclone Concentrate Herbicide
004581 WA-04-0016 | Microthiol Disperss
000100 WA-04-0026 | Quilt Fungicide
034704 WA-87-0010 | Clean Crop Phorate 20g
066158 WA-92-0027 | Di-Syston 15% Granular Systemic Insecticide
045728 WA-92-0033 | Ziram Granflo
010163 WA-94-0017 | Botran 75 W
010163 WA-95-0015 | Imidan 70-WP Agricultural Insecticide
000100 WA-95-0033 | Tilt Fungicide
019713 WA-95-0034 | Drexel Captan 50W
066158 WA-95-0035 | Orthene 75 S Soluble Powder
000241 WA-96-0021 | Assert Herbicide
034704 WA-98-0013 | Clean Crop Amine 4 2,4-D Weed Killer
000100 WA-98-0018 | Tilt Fungicide
059639 WI-00-0003 | Orthene 97 Pellets
000100 WI-01-0005 | Tough 5 EC
059639 WI-02-0016 | Orthene 75 S Soluble Powder
059639 WI-02-0017 | Orthene 75 WSP (insecticide In A Water Soluble Bag)
000524 WI-04-0001 | Roundup Weathermax Herbicide
034704 WI-88-0010 | Clean Crop Malathion 57EC
034704 WI-91-0004 | Clean Crop Phorate 20G
000100 WI-99-0007 | Dual Magnum Herbicide
000100 WI-99-0008 | Dual Magnum Herbicide
000100 WI-99-0009 | Dual Magnum Herbicide
000100 WI-99-0015 | Tilt Fungicide

Table 2.—Section 3 Registrations Canceled for Non-Payment of Maintenance Fee
Registration no. | Product Name
000072-00289 | Miller Simazine 4% Granules Herbicide
000100-01012 | Force 1.5G Insecticide
000100-01036 | Arrosolo 3-3E
000100-01136 | Butafenacil Technical
000100-01137 | Inspire EC
000100-01194 | Reward Accugel Aquatic Herbicide
000211-00057 | Q 7.0-9.0 Npb-4.0
000228-00133 | Riverdale Killsall Liquid
000228-00158 | Riverdale Pre-Emergent Crabgrass Control Concentrate
000228-00159 | Riverdale Pre-Emergent Weed Killer Plus Fertilizer
000228-00172 | Riverdale 34-0-10 & Benefin Crabgrass Preventer
000228-00174 | Riverdale 2.5G Pre-Emergent Herbicide
000228-00201 | Riverdale Killsall II Ready-To-Use Liquid
000228-00204 | Riverdale Triamine II Liquid Weed & Feed
000228-00207 | Riverdale Team .87 Lawn Weed and Feed
000228-00215 | Riverdale Triamine II Premium Liquid Weed and Feed
000228-00218 | Riverdale Triamine II Premium 75 Liquid Weed and Feed
000228-00219 | Riverdale Sweet Sixteen Weed & Feed with Triamine II
000228-00224 | Riverdale Triamine II Spot Weed Killer
000228-00225 | Riverdale Triamine II Weed & Feed
000228-00226 | Riverdale 3-Way Weed and Feed with Triamine II
000228-00228 | Riverdale Triamine II W.s.
000228-00229 | Riverdale Triamine II Granular Weed Killer
000228-00256 | Riverdale Team 1.33% Lawn Weed and Feed
000228-00266 | Riverdale Duo Lawn Weed Killer
000228-00279 | Riverdale Dri-MCPA Amine
000228-00285 | Riverdale Tri-Power (r) Dry
000228-00299 | Riverdale Tri-Power (r) 4000 Weed and Feed
000228-00300 | Riverside Sweet Sixteen Weed and Feed with Tri-Power
000228-00301 | Riverdale Tri-Power (r) Dry Weed and Feed
000228-00306 | Riverdale Tri-Power (r) Dry Granular Weed Killer
000228-00349 | MCDA Lawn Weed Killer
000228-00350 | MCDA 8000 Lawn Weed Killer
000228-00351 | MCDA Spot Weed Killer
000228-00352 | Riverdale MCDA Weed and Feed
000228-00353 | Riverdale MCDA Granular Weed Killer
000241-00370 | Pendulum Plus Fertilizer
000264-00631 | NA 305
000264-00633 | CQ 1451 Sugar Beet Herbicide
000264-00637 | Thiodan Technical (endosulfan)
000264-00638 | Phaser 3EC Insecticide
000264-00649 | Tiller EC Herbicide
000264-00654 | Cheyenne FM Herbicide
000264-00655 | Dakota Herbicide
000264-00656 | Phaser 50 WP Insecticide
000264-00658 | Phaser 3EC Insecticide - for Use In California
000264-00659 | Phaser 50WP- for Use In California
000264-00815 | Progress B Herbicide
000264-00816 | Betamix B Herbicide
000264-00817 | Betanex B Herbicide
000264-00835 | Progress B 0.75x Herbicide
000264-00836 | Betamix B 0.75x Herbicide
000400-00412 | Terraclor 6.5% with Thimet 6.5% Granular
000400-00490 | Gustafson Flowable Lindane 40%
000400-00532 | Sorghum Guard
000400-00538 | Gustafson Lindane 30c Flowable
000400-00539 | Gustafson Captan Lindane 12.5-25
000400-00540 | Gustafson Vitavax-Thiram-Lindane Flowable Fungicide
000478-00044 | Real-Kill Spot Weed Killer
000498-00137 | Spraypak Flying and Crawling Insect Killer
000498-00152 | Spray Pak Quik Kil Insecticide
000524-00382 | Ranger Herbicide
000524-00422 | Freedom Herbicide
000524-00471 | Mon-8421 Herbicide
000524-00488 | Mon 8411 Herbicide
000773-00063 | Ectiban D Insecticide
000773-00065 | Ectiban EC Insecticide
000773-00078 | Atroban Extra Insecticide Ear Tags
000862-00022 | Sunspray 11C
000935-00073 | Crystal Pure 90M Sanitizer, One Inch Tablets
000935-00074 | Crystal Pure 60M Sanitizer Granules
000935-00076 | Crystal Pure 90M Sanitizer, Three Inch Tablets
001021-00023 | Pyrocide 20
001021-00034 | Pyrocide Booster Concentrate E
001021-00754 | Pyrocide Intermediate 6441
001021-00755 | Pyrocide Intermediate 6440
001021-01127 | D-Trans Intermediate 1862
001021-01198 | Pyrocide Fogging Concentrate 7104
001021-01249 | Esbiol Intermediate 1971
001021-01299 | Pyrocide Intermediate 7198
001021-01340 | MGK Formula 7243
001021-01394 | D-Trans Fogger & Contact Spray-2147
001021-01417 | D-Trans Industrial and Household Space and Contact Spray
001021-01453 | Esbiol Fogging Concentrate 2263
001021-01478 | Esbiol Fogging Concentrate 2289
001021-01549 | Evercide Intermediate 2450
001021-01572 | Pyrocide Concentrate 7394
001021-01584 | Multicide Concentrate 2544
001021-01673 | Evercide Total Release Fogger 2613
001021-01694 | Multicide Concentrate 2739
001021-01839 | Permethrin 1.0% Pour on
001021-01840 | Permethrin 0.5% RTU Spray
001021-01842 | Permethrin 0.25% RTU
001021-01845 | Permethrin 2.5% Concentrate
001021-01846 | Permethrin 1% Pour on Synergized
001677-00042 | Q-372 Quartenary Ammonium Conc.
001677-00095 | Mandate II
001677-00123 | Tex-Fluff with Bac-Stat 400
001677-00125 | Tex Stat
001677-00145 | BK Powder
001677-00163 | Eco2000-XP
001677-00166 | Eco2000-RX
001677-00177 | FUL-BAC
001677-00192 | Eco2000-FB
001677-00197 | Sanimaster III
001757-00314 | Generox 270
001769-00164 | Kilzone
001769-00259 | Grenadier
001812-00292 | Kocide Copper Hydroxide Anti Fouling Pigment
001812-00295 | Kocide 404s Flowable Agricultural Fungicide
001812-00298 | K-Cop
001812-00301 | Kocide SD
001812-00304 | Kocide Copper Sulfate Pentahydrate Crystals
001812-00314 | Blue Viking Star Glow Powder
001812-00333 | Kocide Coc Technical
001812-00345 | Oxycop WP
001812-00347 | Spin Out FP
001812-00377 | Copper Fungicide 4E
001812-00383 | Oxycop 53WP
001812-00384 | Spin Out 440
001812-00450 | Finitron Brand Sulfluramid LCA MUP
002217-00720 | Trimec 869
002217-00721 | Trimec 870
002217-00722 | Trimec 871
002217-00729 | MM885
002217-00730 | Trimec M 886 Liquid Weed & Feed
002217-00731 | Trimec M 887 Liquid Weed & Feed
002217-00732 | Trimec M 903
002217-00733 | Trimec M 904
002217-00734 | Trimec M 905
002217-00735 | MM 890 Liquid Weed & Feed 20-0-0
002217-00736 | Trimec M907 Liquid Weed & Feed
002217-00737 | Trimec M908 Liquid Weed & Feed
002217-00738 | Mm 909 Liquid Weed and Feed
002217-00743 | Trimec M891 Weed & Feed
002217-00744 | Trimec M 892 Weed & Feed
002217-00745 | MM 893 Weed & Feed
002217-00750 | Gordon's Trimec M 936 Broadleaf Herbicide
002217-00784 | Trimec 1158 Broadleaf Herbicide
002217-00785 | M 886 Herbicide
002217-00786 | M 887 Herbicide
002217-00792 | Trimec 1159 Spot Weeder
002217-00821 | EH1356 Herbicide
002217-00822 | EH1355 Weed and Feed
002230-00051 | Algaecide-Non Foaming
002230-00055 | Stay
002230-00056 | TBC
002230-00058 | Poly O
002724-00075 | Vet-Kem Kemic Flea and Tick Powder
002724-00514 | Speer Bird Spray
002724-00544 | Speer 2x Indoor Fogger (double Strength)
002724-00563 | Speer Flea & Tick Shampoo for Dogs
002724-00575 | Pet Guard Animal and Kennel Spray
002724-00719 | Elite Flea & Tick Shampoo Vi
002724-00747 | Holiday Kennel Dust
002724-00750 | Holiday Flea & Tick Stop for Dogs and Cats
002724-00751 | Holiday Tick Stop
002749-00336 | Atrazine 4L
002749-00485 | Aceto Atrazine 90
002909-00005 | Matt-Kleen
002935-00485 | BT 320 Sulfur 50 Dust
003008-00088 | Osmose Dac-Q
003095-00031 | Pic Wasp and Hornet Killer II
003095-00036 | Pic Inside-Outside Bug Killer
003573-00050 | Spic and Span Pine
003862-00164 | BR-62B
004313-00092 | Acid Toilet Bowl Cleaner
004822-00404 | Raid Liquid Flea Killer LF4
004822-00500 | Whitmire TC 85 Total Release Insect Fogger
004959-00048 | Myco-Bac Germicidal Detergent Sanitizer
005204-00003 | Biomet 66
005693-00078 | Shield Total Release Fogger Vi
006269-00006 | Sanisol Concentrated Cleaner Disinfectant Odor Neutralizer
006459-00003 | Calmic Type S Formulation-Cascade
007001-00383 | Turf Fertilizer with 1.00% Ronstar
007173-00210 | Generation Bait Dispenser
007173-00222 | Maki Rodenticide Block
007173-00225 | Maki Bait Dispenser
007173-00228 | Maki Green Paraffin Blocks
007173-00233 | Generation Rat & Mouse Bait Tray
007173-00234 | Generation Bait Tray
007173-00235 | Generation Wrapped Mini Block
007401-00085 | Ferti-Lome Ready To Use Liquid Weed & Wild Grass Killer
007401-00087 | Ferti-Lome Liquid Vegetation Killer
007401-00123 | Ferti Lome Tree Borer Crystals
007401-00173 | Ferti-Lome Special Vegetation Killer
007401-00234 | Ferti-Lome Systemic Weed & Feed 11-3-6
007401-00242 | Ferti Lome Weed Killer Plus Lawn Food
007401-00381 | Ferti-Lome Chickweed & Clover Control
007401-00382 | Hi-Yield Lawn Weed Killer
007679-00019 | American Cotton Chopper Concentrate
007689-00014 | Wardley's Liquid Allclear
007689-00016 | Allclear II Algicide for Outdoor Fishpools
007689-00017 | Allclear II Aquarium Algicide
007946-00019 | Abacide
008370-00001 | Nyco Bowl Kleen Toilet Bowl Cleaner
008370-00002 | Super Toilet Bowl Cleaner
008370-00006 | Pine Odor Disinfectant Cleaner
008370-00015 | Uno Disinfectant-Cleaner-Sanitizer
008370-00020 | White Ocean Foam Porcelain & Tile Cleaner-Disinfectant
008503-00013 | Wintergreen Disinfectant
008503-00017 | Acid Free Bathroom Cleaner
008503-00019 | Weed Killer 101
008503-00020 | Veg Kill 15
008596-00032 | Bio Savor
008660-00007 | Sta-Green Weed & Feed 20-3-6
008660-00024 | Vertgreen Mcpp Clover & Chickweed Killer
008660-00071 | New Sod Webworm Control
008660-00147 | Vertagreen St. Augustine Weed & Feed
008660-00148 | Supreme Green
008660-00169 | Ace Lawn Food with Weed Control
008660-00170 | Ace Lawn Food with Weed Control 22-6-8
008660-00172 | Deep Green Vigoro 23-3-7 Lawn Fertilizer & Weed Control
008660-00179 | Golden Vigoro Weed Control Plus Lawn Fertilizer 18-4-8
008660-00184 | Gro-Tone 18 Weed & Feed
008660-00185 | Gro-Tone 20 Weed & Feed
008660-00212 | Par Ex Slow Release Fertilizer
008660-00221 | Park Ridge 18 Weed & Feed
008660-00222 | Park Ridge 20 Weed & Feed
008660-00226 | Premium Green Turf Lawn Food with Weed Control
008660-00228 | Suburban 18 25-3-3 Weed & Feed
008660-00229 | Suburban 20 Weed & Feed 25-3-3
008660-00231 | Vigoro Deep Green Weed and Feed
008660-00242 | Vigoro St. Augustine Grass Lawn Weeder and Feeder
008660-00244 | Vigoro Weed Control Plus Lawn Fertilizer
008722-00001 | Portion-Pac Germicidal Detergent
008722-00002 | Q X 204 Germicidal Detergent
008764-00024 | Sta-Fresh 401
008780-00057 | Turf Line Crabgrass Preventer 3 Formula
008879-00001 | Insect Repellent Citronella Candle
009198-00030 | The Andersons Fertilizer with 0.92% Balan
009198-00091 | The Andersons Tee Time Plus 0.57% Team
009198-00101 | The Andersons Fertilizer with 0.87% Team
009198-00130 | The Andersons Fertilizer with 1.50% Team
009198-00180 | Scotts Proturf 36-0-0 Fertilizer Plus Dicot Weed Contro
009688-00154 | Chemsico Eh1365 Herbicide
009688-00155 | Chemsico Eh1367 Herbicide
009688-00156 | EH 1370 Weed & Feed
010088-00033 | Selective Herbicide No. 2
010330-00002 | Ethylene Agricultural Grade
010350-00044 | 3M Mec Z-11-Tetradecenyl Acetate Pheromone Concentrate
010350-00045 | 3M Mec Tpw Sprayable Pheromone for Tomato Pinworm
010350-00046 | 3M Mec-Epsb Sprayable Pheromone for Eastern Pine Shoot
010350-00047 | 3M Sprayable Pheromone-Mating Disruption for Blackheade
010350-00048 | 3M Sprayable Pheromone-Mating Disruption for Leafroller
010350-00049 | 3M Mec-PBW Sprayable Pheromone for Pink Bollworm
010350-00051 | 3M MEC-OFM Sprayable Pheromone for Oriental Fruit Moth
010350-00052 | 3M Sprayable Pheromone Mating Disruption for Sparganoth
010350-00053 | 3M Sprayable Pheromone Mating Disruption for Grape
010350-00054 | 3M MEC-LPTB Sprayable Pheromone for Lesser Peachtree
010350-00055 | 3M MEC-PTB Sprayable Pheromone for Peachtree Borer
010350-00059 | 3M MEC-CM Sprayable Pheromone for Codling Moth
010350-00062 | 3M MEC - GM Sprayable Pheromone for Gypsy Moth
010404-00059 | Lesco TFC Dispersible Granule Turf Herbicide
010807-00024 | Misty Glycol Air Sanitizer - Lemon/lime Fragrance
010807-00037 | Misty Air Sanitizer Mint Fragrance
010807-00043 | Misty Mizer Air Sanitizer Lime
011474-00092 | Wasp & Hornet Killer V
011603-00040 | Acetochlor Technical
011623-00035 | Total Release Fogger No. II
011685-00013 | MCPA Technical Acid
011685-00024 | Riverdale Technical MCPA IOE
011694-00103 | WH-40 Wasp & Hornet Spray
012455-00071 | 1% Diphacinone Concentrate
013799-00008 | Four Paws Super Fly Repellent
015297-00002 | Bio-Groom Shampoo with Pyrethrins Concentrate for Horse
017545-00005 | Moncide
017705-00001 | Pathmark Bleach
019713-00061 | Drexel Lindane Technical 1
019713-00191 | Drexel Lindane Technical 2
020177-00001 | Selecticide
021268-00004 | Pool Trol Chlorine Powder
021268-00005 | Utikem Winter Grade Algaecide
021268-00006 | Permanent Algaecide
021268-00007 | Utikem Algaecide Algae Control
021268-00011 | Blue Shield Sani Shock
021268-00014 | Slo-Stix
021268-00016 | E-Z Cartridge
024909-00015 | Deo-Pine Quaternary Pine-Oil
028690-00001 | Potomac Sodium Hypochlorite Solution
032802-00079 | Ronstar Plus Fertilizer 1.00%
032802-00080 | Ronstar Plus Fertilizer 1.50%
033560-00045 | Pronone 25g
033981-00009 | Sodium Hypochlorite 16%
034797-00029 | General Purpose Aqueous Insecticide
034797-00039 | Dionne Copper Sulfate Root Killer
034797-00056 | Dionne Flea & Tick Spray III
034913-00017 | Knockout Granular Weed Killer
035900-00006 | Hygene Mark II
035900-00007 | Hygene Mark III Bacteriostatic Water Filter Media
035900-00013 | General Ionics Model Dwc 1500 Bacteriostatic Drinking
035900-00016 | Hygene Mark IV Bacteriostatic Water Filter Media
035900-00021 | Hygiene Mark Viii Bacteriostatic Water Filter Media
035935-00002 | Propanilo-3
035935-00008 | Mcpa Technical Acid
035935-00009 | T-H MCPA Acid
035935-00010 | Technical MCP Ester
037062-00001 | Wechsler Contracting Sodium Hypochlorite Solution
038092-00003 | Fly-Curb 7.76% Premix
038635-00004 | L-34 Algaecide
040849-00035 | Enforcer Flea & Roach Fogger III
040849-00041 | Enforcer Flea Killer for Pets Shampoo III
040849-00044 | Enforcer Flea Killer for Carpets II
040849-00048 | Enforcer Overnite Roach Spray III
040849-00054 | Enforcer Concentrate for Fleas Xx
040849-00060 | Enforcer Next Day Grass & Weed Killer II
040849-00062 | Enforcer Esfenvalerate 35% Wettable Powder
040849-00063 | Enforcer Two-Hour Fogger
040849-00064 | Exterminator's Choice One-Year Flea Control
040849-00065 | Enforcer Rose/Flower & Tomato/Vegetable Spray
040849-00066 | Enforcer Insecticide Powder
040849-00067 | Enforcer Esfenvalerate RTU Insect Spray
040849-00068 | Enforcer P001
040849-00071 | AT Weed & Grass Killer RTU
040849-00074 | Enforcer Home Pest Control X
040975-20004 | Acro-Klo
042056-00002 | Thiram M Liquid
042056-00020 | Tci Mancozeb Ready-To-Use Seed Treatment
042057-00047 | Morgro Malathon 57% Spray
042373-00001 | Blue Magic Waterbed Conditioner
042373-00006 | Blue Magic Multi-Purpose (+) Waterbed Conditioner
042750-00112 | Acetochlor Tgai
042964-00009 | Bac-Tex
042964-00034 | A-464-N
043315-00001 | Swim-Chlor
043576-00005 | Rich Health Flea & Tick Killer
044538-00001 | Super Star Disinfectant Sanitzer Fungicide Deodorizer
045220-00001 | Pow Herbal Flea Powder
045728-00015 | Metam Clr 32.7% Soil Fumigant
045728-00024 | Thiram 65
045745-00004 | L-100 Lemon Oder-Disinfectant-Deoderizer-Cleanser
045745-00005 | P-100 Pine Odor Disinfectant Cleaner Deodorant
045745-00009 | Maxim DS 470
046075-00005 | Jungle Juice 100 Insect Repellent
046260-00039 | Easy Gardener Dog & Cat Repellent Gel with XP-20
046260-00040 | Easy Gardener Dog & Cat Repellent Ready-To-Use Spray
046260-00041 | Easy Gardener Dog & Cat Repellent Ready-To Use Granular
046515-00034 | Super K-Gro Liquid Weed & Feed Formula II
046515-00055 | Broadleaf Weed Killer Aerosol
046620-00002 | Requat Antimicrobial 1977 Concentrate
048139-00014 | Outdoorsman Insect Repellent
048369-00002 | Roach Vanish
049517-00005 | Pick-Mor
050956-00001 | Chloryte Calcium Hypochlorite
050956-00002 | Sask-Chlor Calcium Hypochlorite 65%
051036-00233 | Propanil 4EC
051219-00002 | CWT - BB12
053263-00029 | Emtrol Tobacco Sucker Control Agent
055050-00001 | Sodium Chlorite Aqueous Solution 31%
055050-00002 | Sodium Chlorite 25% Aqueous Solution
055179-00003 | Adorn Toilet Bowl Cleaner
055431-00011 | Surflan LD Specialty Herbicide
055431-00012 | Surflan WDG Plus Specialty Herbicide
056244-00001 | TB-65
056244-00002 | TB-66
056244-00003 | TB-64
056281-20004 | Aqua Pure
056336-00017 | Consep Spr4 Peach Twig Borer Pheromone Sprayable
056336-00018 | Consep Spr5 Pink Bollworm Pheromone Sprayable
056501-00002 | Copper Sulphate Superfine Crystals
056782-00001 | Simple Green D
056782-00002 | Simple Green D Antibacterial
057700-00001 | Shirasagi WHA
058415-00001 | Liquified Chlorine Gas Under Pressure
058779-00001 | Steris LW/SW Master
059825-00002 | Mykon ASD
059825-00003 | CX 1071
060063-00015 | Echo Home Garden Fungicide and Insecticide
061483-00057 | Forpen- 50
061483-00061 | Trenton Creosote Oil
061483-00066 | Anchor Permectrin Pet, Yard and Kennel Spray
061483-00074 | Ectrin Insecticide Cattle Ear Tag
061483-00076 | Ectrin Insecticide Horse Neck Band
061483-00077 | Ectrin Insecticide Water Dispersible Liquid
061483-00081 | Ptenocide Pet Spray
061483-00082 | Pentocide Aerosol House & Carpet Spray
061483-00083 | Americare Flea & Tick Lawn Spray
061483-00084 | Ptenocide Total Release Fogger
061483-00090 | Synergized 0.5 Permethrin / 1% Pbo Pour-On Insecticide
061483-00092 | Patriot Plus Insecticide Ear Tag
061495-00004 | Virocidin Plus
063376-00007 | OKA Mosquito Repellent Coils
064321-00002 | BEP Insecticide 25
065615-00006 | Scoot Racoon
065700-00001 | Alpha-3 Roach Bait
065862-00001 | Chlorine Liquified Gas Under Pressure
066222-00113 | Double Team Herbicide
066222-00114 | Acetochlor 6.4 EC Herbicide
066306-00007 | Iguana Oil SPF 4
066330-00288 | Thiophanate-Methyl Technical
066330-00340 | Tebuconazole 97% Technical
066330-00341 | Tebuconazole 3.6f
066330-00342 | Tebuconazole 45 Df
066721-00001 | Q-6 Detergent Sanitizer
067425-00017 | Ecopco G/X
067572-00008 | R & M Floral & Vegetable Spray #1
067572-00025 | R & M Pyrethrin Powder #1
067572-00037 | R & M Dog & Cat Repellent Granules
067572-00040 | R & M Aloe Ear Mite Treatment
067572-00043 | R & M Rabbit and Deer Repellent Spray - Rtu
067572-00049 | R & M Permethrin Powder .25%
067572-00051 | R & M Synergized Permethrin Powder #1
067599-00001 | Permashield Marine Coating
067869-00021 | Antimicrobial N-5
067869-00023 | Antimicrobial N-40
067869-00039 | N2001 Lf C
067869-00040 | N2001 Lf P
068086-00004 | First Defense Premise Treatment
068086-00006 | Ant Enderzzz
068086-00007 | “Fooey” Training Aid
068333-00003 | Skeet-Daddle Fogging Insecticide
068543-00031 | Bengal Flying Insect Killer 2
069117-00006 | Pointer-12 Insecticide
070465-00003 | Xbinx 19G
070506-00027 | Devrinol 2-E Selective Herbicide
070515-00001 | LPE-94 10% Aqueous Growth Regulator
070567-00001 | BCS Sodium Hypochlorite Solution (12.5%)
070567-00002 | Sodium Hypochlorite Solution (12.5%)
070644-00002 | Nutrol LC
070810-00005 | Auxigro Soluble Granule Plant Metabolic Primer
070852-00004 | Agc 0.05 Ag
070909-00004 | The Dragonfly Carbon Dioxide Canister
070950-00004 | Avachem Sorbitol Octanoate MP
070950-00005 | Avachem Octa-SP- 50%
071368-00055 | MCPA Amine 4 Herbicide
071368-00056 | MCPA Ester 4 Herbicide
071864-00002 | Herli-Bcd
071871-00001 | CD-Cartridge
071946-00002 | Calcium Hypochlorite
072106-00002 | Evergreen Lawn Food with Weed Control 12-4-4
072106-00003 | Spring Feed and Moss Cure
072468-00003 | Moldwash Wood Preservative/mold Control
072637-00001 | Green Screen Bags Animal Repellent
073417-00001 | Woad Warrior
074054-00002 | Propiconazole Technical
074152-00003 | Megagro Growth Stimulator
074787-00001 | Proteku Grape Guard
074905-00001 | Socusil Snail and Slug Repellent
075199-20001 | 12.5% Chlorinating Bleach
075457-00002 | Anti-Pest-O Mup
075457-00004 | Anti-Pest-O Concentrate
075499-00012 | Plant Synergists 6-BA Technical
075499-00014 | Plant Synergists Gib 10% WP
075499-00015 | Plant Synergists GA Paste
075562-00001 | Sani-Spa Disinfectant Tablet
075639-00001 | Antmaster's Sweet Gel Bait
075799-00002 | Pxts Blend D
075844-00004 | Liberty 45 Ultra
079411-20002 | Pool Cide 10
079442-00006 | Exosex-ECB
079442-00007 | Exosex-DBM
079676-00013 | Oryzalin G-Pro Herbicide
079705-00001 | Act T-558
079705-00002 | Act Z-200
079722-00001 | Sapphire Pool Products
081260-00001 | Pine Cleaner
081449-00001 | Sulfur Technical
081449-00002 | Technical Copper Oxychloride
081449-00003 | Technical Basic Copper Sulfate
081959-00010 | Vessel 2 - Aquatic (28.7%)
082378-00001 | Lindane Technical
082542-00001 | Bifenthrin Technical
082542-00002 | Permethrin Technical
082727-00001 | Exterminants
082875-00002 | Metsulfuron G-Pro Herbicide
082971-00001 | Bluewater

IV. Public Docket

Complete lists of registrations canceled for non-payment of the maintenance fee will also be available for reference during normal business hours in the OPP Public Docket, Rm. S-4400, One Potomac Yard (South Building), 2777 S. Crystal Drive, Arlington, VA. Product-specific status inquiries may be made by telephone by calling toll-free 1-800-444-7255.

List of Subjects

Environmental protection, Maintenance fees, Pesticides and pests.

Dated: July 13, 2007.
Debra Edwards,
Director, Office of Pesticide Programs.

[FR Doc. E7-14182 Filed 7-24-07; 8:45 a.m.]

BILLING CODE 6560-50-S